NUCLEAR REGULATORY COMMISSION

[NRC-2012-0277]

Proposed Dewey-Burdock Project in Fall River and Custer Counties, South Dakota, for In-Situ Leach Uranium Milling Facilities

AGENCY: Nuclear Regulatory Commission.

ACTION: Final supplemental environmental impact statement; issuance.

SUMMARY: Notice is hereby given that the U.S. Nuclear Regulatory Commission (NRC) published the Final Supplemental Environmental Impact Statement (SEIS) (NUREG-1910, Supplement 4) for the Dewey-Burdock In-Situ Uranium Recovery (ISR) Project. By letter dated August 10, 2009, Powertech USA, Inc. (Powertech) submitted an application to the NRC for a new source materials license for the Dewey-Burdock ISR Project, which Powertech proposes to be located in Fall River and Custer Counties, South Dakota. Powertech is proposing to recover uranium from the Dewey-Burdock Project site using the in-situ recovery process.

ADDRESSES: Please refer to Docket ID NRC-2012-0277 when contacting the NRC about the availability of information regarding this document. You may access publicly-available information related to this action by the following methods:

• Federal Rulemaking Web site: Go to http://www.regulations.gov and search for Docket ID NRC-2012-0277. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The “Final SEIS (NUREG-1910, Supplement 4) is available in ADAMS under Accession Nos. ML14024A477 and ML14024A478.

• NRC's PDR: You may examine and purchase copies of public documents at the NRC's PDR, Room O1-F21, One White Flint North, 11555 Rockville Pike, Rockville, Maryland 20852.

FOR FURTHER INFORMATION CONTACT: Ms. Haimanot Yilma, Office of Federal and State Materials and Environmental Management Programs, U.S. Nuclear Regulatory Commission, Washington DC, 20555-0001; telephone: 301-415-8029, email: Haimanot.Yilma@nrc.gov.

SUPPLEMENTARY INFORMATION: Under the NRC's environmental protection regulations in part 51 of Title 10 of the Code of Federal Regulations (10 CFR), that implement the National Environmental Policy Act of 1969 (NEPA), preparation of an Environmental Impact Statement (EIS) or supplement to an EIS (SEIS) is required for issuance of a license to possess and use source material for uranium milling (see 10 CFR 51.20(b)(8)).

In May 2009, the NRC staff issued NUREG-1910, “Generic Environmental Impact Statement for In-Situ Leach Uranium Milling Facilities” (herein referred to as the GEIS). In the GEIS, NRC assessed the potential environmental impacts from construction, operation, aquifer restoration, and decommissioning of an ISR facility located in four specific geographic regions of the western United States. The proposed Dewey-Burdock ISR Project is located within the Nebraska-South Dakota-Wyoming Uranium Milling Region identified in the GEIS. This final SEIS supplements the GEIS and incorporates by reference relevant portions from the GEIS, and uses site-specific information from the applicant's license application and other independent sources to fulfill the requirements in 10 CFR 51.20(b)(8).

The final SEIS was prepared in response to an application submitted by Powertech by letter dated August 10, 2009. The applicant proposes the construction, operation, aquifer restoration, and decommissioning of an in-situ recovery facility to recover uranium.

The final SEIS was prepared by the NRC and its contractor, the Center for Nuclear Waste Regulatory Analyses (CNWRA), in cooperation with the U.S. Bureau of Land Management (BLM), in compliance with NEPA, and the NRC's regulations for implementing NEPA (10 CFR part 51).

The proposed Dewey-Burdock project will be located approximately 21 km [13 mi] north-northwest of Edgemont, South Dakota, in northern Fall River and southern Custer Counties. The proposed facility would encompass approximately 4,282 hectares (ha) (10,580 acres [ac]), which consists of two contiguous mining units: the Burdock Unit and the Dewey Unit.

The final SEIS is being issued as part of the NRC's process to decide whether to issue a license to Powertech pursuant to 10 CFR part 40. In this final SEIS, the NRC staff has assessed the potential environmental impacts from the construction, operation, aquifer restoration, and decommissioning of the proposed Dewey-Burdock project. The NRC staff accessed the impacts of the proposed action and its alternatives on land use; historical and cultural resources; visual and scenic resources; climatology, meteorology and air quality; geology, minerals and soils; water resources; ecological resources; socioeconomics; environmental justice; noise; traffic and transportation; public and occupational health and safety; and waste management. Additionally, the final SEIS analyzes and compares the benefits and costs of the proposed action. In preparing this final SEIS, the NRC staff also considered, evaluated, and addressed the public comments received on the draft SEIS published on November 26, 2012 (77 FR 70486). Appendix E of final SEIS captures the public's comments and the NRC's responses.

In doing so, the NRC staff evaluated site-specific data and information from the Dewey-Burdock ISR Project to determine if Powertech's proposed activities and the site characteristics were consistent with those evaluated in the GEIS. The NRC then determined which relevant sections of, and impact conclusions in, the GEIS could be incorporated by reference. The NRC staff also determined if additional data or analysis was needed to assess the potential environmental impacts for a specific environmental resource area. The NRC documented its assessments and conclusions in the final SEIS.

In addition to the action proposed by Powertech, the NRC staff addressed the no-action alternative, as well as alternative wastewater disposal options under the proposed action. All the alternatives were analyzed in detail. The no-action alternative serves as a baseline for comparison of the potential environmental impacts of the proposed action.

After weighing the impacts of the proposed action and comparing the alternatives, the NRC staff, in accordance with 10 CFR 51.911(d), sets forth its recommendation regarding the proposed action. Unless safety issues mandate otherwise, the NRC staff recommends that the proposed action be approved (i.e., the NRC should issue a source material license for the proposed Dewey-Burdock ISR Project).

The final SEIS for the proposed Dewey-Burdock project may also be accessed on the internet at http://www.nrc.gov/reading-rm/doc-collections/nuregs/staff/ by selecting “NUREG-1910” or on the NRC's Dewey-Burdock ISR Project Web page at http://www.nrc.gov/materials/uranium-recovery/license-apps/dewey-burdock/dewey-burdock-app-docs.html. Additionally, a copy of the final SEIS will be available at the following public libraries:

Edgemont Public Library, 412 2nd Avenue, Edgemont, SD 57735.

Rapid City Public Library, 610 Quincy Street, Rapid City, SD 57701-3630.

Custer County Library, 447 Crook Street, Custer, SD 57730.

Weston County Library, 23 West Main Street, Newcastle, WY 82701.

Hot Springs Public Library, 145 N. Chicago Street, Hot Springs, SD 57747.

Oglala Lakota College Library, P.O. Box 310, Kyle, SD 57752.

Dated at Rockville, Maryland, this 24th day of January 2014.
For the Nuclear Regulatory Commission.
Christepher McKenney,
Acting Deputy Director, Environmental Protection and Performance Assessment Directorate, Division of Waste Management and Environmental Protection, Office of Federal and State Materials and Environmental Management Programs.

[FR Doc. 2014-02043 Filed 1-30-14; 8:45 am]

BILLING CODE 7590-01-P